DEPARTMENT OF COMMERCE

International Trade Administration

North American Free-Trade Agreement (NAFTA), Article 1904 Binational Panel Reviews

AGENCY: NAFTA Secretariat, United States Section, International Trade Administration, Department of Commerce.

ACTION: Notice of decision of panel.

SUMMARY: On March 20, 2001 the binational panel issued its decision in the review of the final antidumping duty determination made by the International Trade Administration, respecting Corrosion-Resistant Carbon Steel Flat Products from Canada, NAFTA Secretariat File Number USA-CDA-98-1904-01. The majority remanded the determination to the Investigating Authority with the following instructions: (1) DOC is required to recalculate Stelco's costs of production, taking account of the year-end return of profits by Baycoat to Stelco. The Panel requires DOC to provide the Panel with the method by which DOC recalculates that cost of production in light of such return of profits. The Panel further requires that DOC explain their methodology in light of the statutory requirements and attendant legislation as interpreted by the Panel; (2) DOC is required to reevaluate the application of 19 U.S.C. 1677 (b)(f)(3) in light of the requirement that DOC adjust the transfer price in accordance with the recalculation set out under (1) immediately above; (3) In its Response Brief, DOC requests a remand to correct any errors on the imputed credit expense and payment date issues, in light of Stelco's complaint. The Panel grants DOC's request and so remands; and (4) DOC is required to provide the Panel with its response to the aforementioned remand instructions within sixty (60) days from the date of this remand. One Panelist concurred in part and dissented in part to the majority opinion. The dissenting Panelist rejects Stelco's challenge to DOC's construction of the applicable statutes and to its findings of facts. In all other respects, he concurred in the remand. Copies of the panel decision are available from the U.S. Section of the NAFTA Secretariat.

FOR FURTHER INFORMATION CONTACT: Caratina L. Alston, United States Secretary, NAFTA Secretariat, Suite 2061, 14th and Constitution Avenue, Washington, D.C. 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision

The panel remanded the final determination of the International Trade Administration with instructions listed above. The determination on remand is due on May 21, 2001.

Dated: March 22, 2001.
Caratina L. Alston,
U.S. Secretary, NAFTA Secretariat.

[FR Doc. 01-7577 Filed 3-27-01; 8:45 am]

BILLING CODE 3510-GT-P